ENVIRONMENTAL PROTECTION AGENCY

[ER-FRL-6633-6]

Environmental Impact Statements Regulations; availability of EPA Comments

Availability of EPA comments prepared pursuant to the Environmental Review Process (ERP), under section 309 of the Clean Air Act and Section 102(2)(c) of the National Environmental Policy Act as amended. Requests for copies of EPA comments can be directed to the Office of Federal Activities at (202) 564-7167.

An explanation of the ratings assigned to draft environmental impact statements (EISs) was published in FR dated April 12, 2002, (67 FR 17992).

Draft EISs

ERP No. D-NAS-A12043-00 Rating LO, Programmatic—MARS Exploration Rover-2003 (MER-2003) Project, Continuing the Long-Term Exploration of MARS, Implementation.

Summary: EPA has no objection to the proposed action.

ERP No. D-SFW-A65171-00 Rating Lo, Resident Canada Goose Management Plan to Evaluate Alternative Strategies to Reduce Manage and Control Resident Canada Goose Populations within the Conterminous United States.

Summary: EPA had no objections to the proposed management plan.

Final EISs

ERP No. F-AFS-G65008-NM, Viveash Fire Timber Salvage Project, Proposal to Harvest a Portion of the Fire-Killed Trees, Pecos/Las Vegas Ranger District, Santa Fe National Forest, NM.

Summary: EPA's comments on the DEIS were adequately addressed and EPA has no objection to the selected alternative.

ERP No. F-AFS-J65354-MT, Game Range Project, Ecosystem Health and Productivity Improvements, Fuel Loading Reduction and Game Winter Range Condition Improvements and Maintenance, Lolo National Forest Plain/Thompson Falls Ranger District, Thompson River to Squaw Creek, Thompson Falls, MT.

Summary: EPA expressed environmental concerns regarding proposed timber harvests in roadless areas. Helicopter yarding methods were proposed to minimize impacts to water quality and appropriate BMPs and inland Native Fish Strategy guidelines for Riparian Habitat Conservation Areas would be applied.

ERP No. F-AFS-L65396-ID, Mann Creek Vegetation Management and Watershed Restoration Project, Implementation, Payette National Forest, Weiser Ranger District, Washington County, ID.

Summary: No formal comment letter was sent to the preparing agency.

ERP No. F-FTA-D54039-PA, North Shore Connector extending existing Light Rail Transit (LRT) System from Golden Triangle of Downtown Pittsburgh to the North Shore, Funding, USCG Bridge Permit, NPDES Permit, and COE Section 10 and 404 Permits, Allegheny County, PA.

Summary: EPA feels that its comment on the DEIS were addressed adequately. The project team should continue to work closely with appropriate agencies to ensure incorporation of any changing environmental conditions in the project area.

ERP No. F-NAS-K12008-CA, Programmatic EIS—NASA Ames Development Plan (NADP) for Ames Research Center, New Research and Development Uses, Implementation, San Francisco Bay, Santa Clara County, CA.

Summary: The final Programmatic EIS includes added mitigation measures to better address construction-phase air emissions and other EPA recommendations for air quality mitigation. EPA suggested that the air quality measures be incorporated in the Record of Decision.

Dated: September 24, 2002.
Joseph C. Montgomery,
Director, NEPA Compliance Division, Office of Federal Activities.

[FR Doc. 02-24662 Filed 9-26-02; 8:45 am]

BILLING CODE 6560-50-M